FEDERAL COMMUNICATIONS COMMISSION

47 CFR Part 1

[GN Docket Nos. 12-268, 13-185; WT Docket No. 05-211; DA 14-414]

Wireless Telecommunications Bureau Seeks Comment on Request for Clarification or Waiver of the Commission's Attributable Material Relationship Rule

AGENCY: Federal Communications Commission.

ACTION: Petition for clarification or waiver, comment requested.

SUMMARY: In this document, the Wireless Telecommunications Bureau seeks comment on a request for clarification or waiver of the Commission's “attributable material relationship” rule.

DATES: Comments are due on or before April 25, 2014, and reply comments are due on or before May 9, 2014.

ADDRESSES: All filings in response to this notice must refer to GN Docket Nos. 12-268, 13-185 and WT Docket No. 05-211. The Wireless Telecommunications strongly encourages interested parties to file comments electronically using the Commission's Electronic Comment Filing System (ECFS). Comments may be submitted by any of the following methods:

• Electronic Filers: Comments may be filed electronically using the Internet by accessing the ECFS: http://fjallfoss.fcc.gov/ecfs2/.

• Paper Filers: Parties who choose to file by paper must file an original and five copies of each filing. Filings can be sent by hand or messenger delivery, by commercial overnight courier, or by first-class or overnight U.S. Postal Service mail. All filings must be addressed to the Commission's Secretary, Attn: WTB/ASAD, Office of the Secretary, Federal Communications Commission. All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class, Express, and Priority mail must be addressed to 445 12th Street SW., Washington, DC 20554.

People with Disabilities: Contact the FCC to request reasonable accommodations (accessible format documents, sign language interpreters, CART, etc.) by email: FCC504@fcc.gov or phone: 202-418-0530 or TTY: 202-418-0432.

All filings must be addressed to the Commission's Secretary, Marlene H. Dortch, Office of the Secretary, Federal Communications Commission, 445 12th Street SW., Washington, DC 20554. Parties should also send a copy of their filings to Kelly A. Quinn, by email to kelly.quinn@fcc.gov. Parties must also serve one copy with the Commission's copy contractor, Best Copy and Printing, Inc. (BCPI), Portals II, 445 12th Street SW., Room CY-B402, Washington, DC 20554, (202) 488-5300, or via email to fcc@bcpiweb.com.

FOR FURTHER INFORMATION CONTACT: Wireless Telecommunications Bureau, Auctions and Spectrum Access Division: Kelly A. Quinn at (202) 418-7384 or kelly.quinn@fcc.gov.

SUPPLEMENTARY INFORMATION: This is a summary of a public notice released on March 27, 2014 by the Wireless Telecommunications Bureau, Federal Communications Commission. The complete text of the public notice, including all related Commission documents, is available for public inspection and copying from 8:00 a.m. to 4:30 p.m. Eastern Time (ET) Monday through Thursday or from 8:00 a.m. to 11:30 a.m. ET on Fridays in the FCC Reference Information Center, 445 12th Street SW., Room CY-A257, Washington, DC 20554. The public notice also may be purchased from the Commission's duplicating contractor, Best Copy and Printing, Inc. (BCPI), 445 12th Street SW., Room CY-B402, Washington, DC 20554, telephone 202-488-5300, fax 202-488-5563, or you may contact BCPI at its Web site: http://www.BCPIWEB.com. Copies of the public notice, the request for clarification and waiver that is the subject of the public notice and related documents also are available on the Commission's Web site at: http://www.fcc.gov/cgb/ecfs/.

1. On March 4, 2014, Grain Management, LLC filed a request for clarification or waiver of the Commission's “attributable material relationship” rule, 47 CFR 1.2110(b)(3)(iv)(A).

2. The Wireless Telecommunications Bureau invites interested parties to file comments on the request.

Federal Communications Commission.
Gary D. Michaels,
Deputy Chief, Auctions and Spectrum Access Division, WTB.

[FR Doc. 2014-08183 Filed 4-11-14; 8:45 am]

BILLING CODE 6712-01-P